SECURITIES AND EXCHANGE COMMISSION

[File No. 500-1]

Altus Pharmaceuticals, Inc., Blackhawk Capital Group BDC, Inc., Cargo Connection Logistics Holding, Inc., Diapulse Corporation of America, Globus International Resources Corp., Kingston Systems, Inc., and Mega Media Group, Inc.; Order of Suspension of Trading

August 14, 2013.

It appears to the Securities and Exchange Commission that there is a lack of current and accurate information concerning the securities of Altus Pharmaceuticals, Inc. because it has not filed any periodic reports since the period ended June 30, 2009.

It appears to the Securities and Exchange Commission that there is a lack of current and accurate information concerning the securities of Blackhawk Capital Group BDC, Inc. because it has not filed any periodic reports since the period ended September 30, 2010.

It appears to the Securities and Exchange Commission that there is a lack of current and accurate information concerning the securities of Cargo Connection Logistics Holding, Inc. because it has not filed any periodic reports since the period ended December 31, 2009.

It appears to the Securities and Exchange Commission that there is a lack of current and accurate information concerning the securities of Diapulse Corporation of America because it has not filed any periodic reports since the period ended September 30, 2008.

It appears to the Securities and Exchange Commission that there is a lack of current and accurate information concerning the securities of Globus International Resources Corp. because it has not filed any periodic reports since the period ended December 31, 2004.

It appears to the Securities and Exchange Commission that there is a lack of current and accurate information concerning the securities of Kingston Systems, Inc. because it has not filed any periodic reports since the period ended December 27, 2008.

It appears to the Securities and Exchange Commission that there is a lack of current and accurate information concerning the securities of Mega Media Group, Inc. because it has not filed any periodic reports since the period ended July 31, 2009.

The Commission is of the opinion that the public interest and the protection of investors require a suspension of trading in the securities of the above-listed companies. Therefore, it is ordered, pursuant to Section 12(k) of the Securities Exchange Act of 1934, that trading in the securities of the above-listed companies is suspended for the period from 9:30 a.m. EDT on August 14, 2013, through 11:59 p.m. EDT on August 27, 2013.

By the Commission.
Jill M. Peterson,
Assistant Secretary.

[FR Doc. 2013-20102 Filed 8-14-13; 11:15 am]

BILLING CODE 8011-01-P